DEPARTMENT OF ENERGY

Federal Energy Regulatory Commission

[Docket No. RP01-467-000]

ANR Pipeline Company; Notice Tariff Filing

July 5, 2001.

Take notice that on June 29, 2001, ANR Pipeline Company (ANR) tendered for filing as part of its FERC Gas Tariff, Second Revised Volume No. 1, the following tariff sheets, with an effective date of August 1, 2001:

First Revised Sheet No. 0

Eleventh Revised Sheet No. 2

Sixth Revised Sheet No. 69

Ninth Revised Sheet No. 70

Sixth Revised Sheet No. 71

Sixth Revised Sheet No. 72

First Revised Sheet No. 75D

Second Revised Sheet No. 76

Third Revised Sheet No. 93

Original Sheet No. 93A

First Revised Sheet No. 99

Second Revised Sheet No. 100

Fourth Revised Sheet No. 116

Second Revised Sheet No. 148

Seventh Revised Sheet No. 161

Fifth Revised Sheet No. 188

Sixth Revised Sheet No. 191

Sheet Nos. 192-197

ANR states that the tariff sheets revise three sections of the Form of Agreement in ANR's tariff. ANR proposes to include a provision allowing shippers to change their maximum daily quantity to correspond to changes in Fuel Use Percentage. ANR also proposes to eliminate a provision relating to operational flow orders from both the Form of Agreement and the General Terms and Conditions (GT&C) of the tariff and move provisions relating to discounted rates to a new section in the GT&C.

ANR also proposes to make the following revisions to its GT&C: (1) Revise Sections 2.1, 2.4 and 21.2 relating to the deposit requirement for requests for service; (2) revise Section 2.1 to include a provision deeming contracts to be executed upon ANR's approval and the customer's nomination; (3) revise Section 18.7 to change the choice of law from Michigan to Texas; (4) revise Section 18.8 relating to changes in rules, orders or regulations which invalidate a term of service; (5) revise Section 21.2 relating to contractual obligations arising from capacity releases; (6) revise Section 30.2 to clarify that ANR can file either a negotiated rate agreement or a tariff sheet; and (7) update several tariff sheets to reflect the company's new address and appropriate department for receiving various notices.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17316 Filed 7-11-01; 8:45 am]

BILLING CODE 6717-01-P